DEPARTMENT OF HEALTH AND HUMAN SERVICES

Centers for Disease Control and Prevention

Disease, Disability, and Injury Prevention and Control Special Emphasis Panel (SEP): Initial Review

The meeting announced below concerns Comparison and Validation of Screening Tools for Substance Use Among Pregnant Women, DP15-003, initial review.

SUMMARY: This document corrects a notice that was published in the Federal Register on February 18, 2015, Volume 80, Number 32, pages 8661. The time and date should read as follows:

Time and Date:11:00 a.m.-6:00 p.m., March 18, 2015 (Closed).

FOR FURTHER INFORMATION CONTACT: M. Chris Langub, Ph.D., Scientific Review Officer, CDC, 4770 Buford Highway NE., Mailstop F46, Atlanta, Georgia 30341, Telephone: (770) 488-3585, EEO6@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-04467 Filed 3-3-15; 8:45 am]

BILLING CODE 4163-18-P